DEPARTMENT OF HEALTH AND HUMAN SERVICES

Centers for Disease Control and Prevention

[60Day-13-0743]

Proposed Data Collections Submitted for Extension of Public Comment Period

Proposed Project

Assessment and Monitoring of Breastfeeding-Related Maternity Care Practices in Intra-partum Care Facilities in the United States and Territories (OMB Control No. 0920-0743, Exp. 12/31/2011)—Reinstatement—National Center for Chronic Disease Prevention and Health Promotion (NCCDPHP), Centers for Disease Control and Prevention (CDC).

SUMMARY: The Centers for Disease Control and Prevention (CDC), Department of Health and Human Services (HHS), is reopening the comment period, thus amending the due date for responses to its Request for Public Comments, published in Vol. 78, No. 29, of the Federal Register on February 12, 2013. The due date has been extended to May 3, 2013, to allow more time for review.

To request more information on the proposed project or to obtain a copy of the data collection plans and instruments, call 404-639-7570 or send comments to Kimberly Lane, 1600 Clifton Road, MS D-74, Atlanta, GA 30333 or send an email to omb@cdc.gov.

Ron A. Otten,
Director, Office of Scientific Integrity, Office of the Associate Director for Science, Office of the Director, Centers for Disease Control and Prevention.

[FR Doc. 2013-09367 Filed 4-19-13; 8:45 am]

BILLING CODE 4163-18-P